DEPARTMENT OF THE TREASURY

United States Mint

Revised Pricing for Five 2013 Products

AGENCY: United States Mint, Department of the Treasury.

ACTION: Notice.

SUMMARY: The United States Mint is announcing revised pricing for five 2013 products. Please see the table below.

Product | 2013 retail price
United States Mint Happy Birthday Coin Set | $19.95
United States Mint Congratulations Set | 64.95
American Eagle One Ounce Silver Proof Coin | 62.95
American Eagle One Ounce Silver Uncirculated Coin | 53.95
America the Beautiful Five-Ounce Silver Uncirculated Coin™ (5 issues) | 244.95

FOR FURTHER INFORMATION CONTACT: Marc Landry, Acting Associate Director for Sales and Marketing; United States Mint; 801 9th Street NW., Washington, DC 20220; or call 202-354-7500.

Authority: 31 U.S.C. 5111, 5112 & 9701.

Dated: January 8, 2013.
Richard A. Peterson,
Acting Director, United States Mint.

[FR Doc. 2013-00670 Filed 1-14-13; 8:45 am]

BILLING CODE P